DEPARTMENT OF COMMERCE

National Oceanic and Atmospheric Administration

RIN 0648-XD917

Gulf of Mexico Fishery Management Council (Council); Public Meeting

AGENCY: National Marine Fisheries Service (NMFS), National Oceanic and Atmospheric Administration (NOAA), Commerce.

ACTION: Notice of a public meeting.

SUMMARY: The Gulf of Mexico Fishery Management Council (Council) will hold a meeting of its Ad Hoc Red Snapper Charter For-Hire Advisory Panel (AP).

DATES: The meeting will convene on Wednesday, May 13, 2015, from 8:30 a.m. until 5 p.m.

ADDRESSES: The meeting will be held at the Gulf of Mexico Fishery Management Council office, 2203 North Lois Avenue, Suite 1100, Tampa, FL, 33607.

FOR FURTHER INFORMATION CONTACT: Dr. Ava Lasseter, Anthropologist, Gulf of Mexico Fishery Management Council; telephone: (813) 348-1630; fax: (813) 348-1711; email: ava.lasseter@gulfcouncil.org.

SUPPLEMENTARY INFORMATION: The items of discussion on the agenda are as follows:

Ad Hoc Red Snapper Charter For-Hire Advisory Panel Agenda, Wednesday, May 13, 2015, 8:30 a.m. Until 5 p.m.

I. Adoption of Agenda

II. Election of Chair and Vice-chair

III. Overview of the Charter For-hire Component

IV. Red Snapper Management Approaches for the Charter For-hire Component

V. Recommendations to the Council

VI. Other Business—Adjourn—

The Agenda is subject to change, and the latest version will be posted on the Council's file server. For meeting materials see folder “Ad Hoc Red Snapper Charter For-Hire” on the Gulf Council file server. To access the file server, the URL is https://public.gulfcouncil.org:5001/webman/index.cgi, or go to the Council's Web site and click on the FTP link in the lower left of the Council Web site (http://www.gulfcouncil.org). The username and password are both “gulfguest”.

The meeting will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: April 22, 2015.
Tracey L. Thompson,
Acting Deputy Director, Office of Sustainable Fisheries, National Marine Fisheries Service.

[FR Doc. 2015-09671 Filed 4-27-15; 8:45 am]

BILLING CODE 3510-22-P